DEPARTMENT OF HEALTH AND HUMAN SERVICES

Substance Abuse and Mental Health Services Administration

Center for Mental Health Services; Notice of Meeting

Pursuant to Public Law 92-463, notice is hereby given of a meeting for the Center for Mental Health Services (CMHS) National Advisory Council on July 23 and July 24, 2008.

A portion of the meeting is open and will include discussion of the Center's policy issues, and current administrative, legislative, and program developments. The meeting will also include the review, discussion and evaluation of grant applications. Therefore the meeting will be partially closed to the public as determined by the Administrator, SAMHSA, in accordance with Title 5 U.S.C. 552b(c)(6) and 5 U.S.C. App. 2. section 10(d).

Attendance by the public will be limited to space available. Public comments are welcome. Please communicate with the CMHS Council's Designated Federal Official, Ms. Dianne McSwain (see contact information below), to make arrangements to attend, comment or to request special accommodations for persons with disabilities.

Substantive program information, a summary of the meeting and a roster of Council members may be obtained either by accessing the Council's Web site at https://www.nac.samhsa.gov/CMHScouncil/index.aspx as soon as possible after the meeting, or by contacting Ms. McSwain. The transcript of the open portion of the meeting will be available on the Council's Web site within three weeks after the meeting.

Committee Name: Center for Mental Health Services National Advisory Council.

Date/Time/Type:

July 23, 2008:

From 9 a.m.-11:30 a.m.: CLOSED.

From 11:40 a.m.-4:30 p.m.: OPEN.

July 24, 2008:

From 9 a.m.-1 p.m.: OPEN.

Place(s): 1 Choke Cherry Road, Sugarloaf Conference Room, Rockville, Maryland 20857.

Contact: Dianne McSwain, M.S.W., Designated Federal Official, SAMHSA/CMHS National Advisory Council, 1 Choke Cherry Road, Rm. 6-1063, Rockville, Maryland 20857, Telephone: (240) 276-1828, Fax: (240) 276-1850, E-mail: Dianne.McSwain.@samhsa.hhs.gov.

Toian Vaughn,
Committee Management Officer, Substance Abuse and Mental Health, Services Administration.

[FR Doc. E8-15541 Filed 7-8-08; 8:45 am]

BILLING CODE 4162-20-P